ENVIRONMENTAL PROTECTION AGENCY

[FRL-7101-5]

EPA National Advisory Council for Environmental Policy and Technology; Notification of Public Advisory Committee Teleconference Meeting

AGENCY: Environmental Protection Agency (EPA).

ACTION: Notification of Public Advisory Committee teleconference meeting.

SUMMARY: Pursuant to the Federal Advisory Committee Act, Pub. L. 92-463, notice is hereby given that the National Advisory Council for Environmental Policy and Technology (NACEPT) will meet in a public teleconference on Tuesday, November 20, 2001 from 1 p.m. to 3 p.m. Eastern Time. The meeting will be hosted out of Conference Room #2530, U.S. EPA, Ariel Rios North Federal Building, 1200 Pennsylvania Avenue, NW, Washington, DC 20004. The meeting is open to the public, however, due to limited space, seating will be on a registration-only basis. For further information regarding the teleconference meeting, or how to register and obtain the phone number, please contact the individuals listed below.

Background: NACEPT is a federal advisory committee under the Federal Advisory Committee Act, Pub. L. 92463. NACEPT provides advice and recommendations to the Administrator and other EPA officials on a broad range of domestic and international environmental policy issues. NACEPT consists of a representative cross-section of EPA's partners and principle constituents who provide advice and recommendations on policy issues and serves as a sounding board for new strategies that the Agency is developing. The Administrator of EPA has asked NACEPT to act as a visionary group by periodically identifying emerging trends and issues that could impact the EPA's ability to protect public health and the environment. To address this charge, a subset of the NACEPT Council organized into an Emerging Trends and Issues Workgroup.

Purpose of Meeting: The NACEPT Council will review and comment on the Emerging Trends and Issues Workgroup's draft report which analyses environmental challenges over the next 5-10 years. The Council will comment on the draft report and begin to prioritize opportunities for EPA.

Availability of Review Materials: Sonia Altieri can be contacted for information regarding the NACEPT Emerging Trends and Issues Workgroup draft report (202-564-9788).

FOR FURTHER INFORMATION CONTACT: Members of the public wishing to gain access to the conference room on the day of the meeting must contact Mr. Peter G. Redmond, Designated Federal Officer for NACEPT, U.S. Environmental Protection Agency (1601A), Office of Cooperative Environmental Management, 1200 Pennsylvania Avenue, NW, Suite 6440, Washington, DC 20460; telephone/voice mail at (202) 564-1292, fax at (202) 501-0656; or via e-mail at redmond.peter@epa.gov. The agenda will be available to the public upon request. Written comments from the public are welcome any time before, during or after the meeting.

General Information: Additional information concerning the National Advisory Council for Environmental Policy and Technology (NACEPT) can be found on our web site (http://www.epa.gov/ocem).

Meeting Access: Individuals requiring special accommodation at this meeting, including wheelchair access to the conference room, should contact Mr. Redmond at least five business days prior to the meeting so that appropriate arrangements can be made.

Dated: November 2, 2001.
Peter G. Redmond,
Designated Federal Officer.

[FR Doc. 01-28197 Filed 11-8-01; 8:45 am]

BILLING CODE 6560-50-P